DEPARTMENT OF LABOR

Occupational Safety and Health Administration

[Docket No. ICR-1218-0048 (2000)]

Occupational Noise Exposure Standard; Extension of the Office of Management and Budget's (OMB) Approval of Information-Collection (Paperwork) Requirements

AGENCY: Occupational Safety and Health Administration (OSHA), Labor.

ACTION: Notice of an opportunity for public comment.

SUMMARY: OSHA solicits comments concerning the extension of the information-collection requirements contained in the Occupational Noise Exposure Standard (the Noise Standard”) (29 CFR 1910.95).

Request for Comment: The Agency has a particular interest in comments on the following issues:

• Whether the information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

DATES: Submit written comments on or before November 27, 2000.

ADDRESSES: Submit written comments to the Docket Office, Docket No. ICR-1218-0048 (2000), OSHA, U.S. Department of Labor, Room N-2625, 200 Constitution Avenue, NW., Washington, DC 20210; telephone: (202) 693-2350. Commenters may transmit written comments of 10 pages or less in length by facsimile to (202) 693-1648.

FOR FURTHER INFORMATION CONTACT: Todd R. Owen, Directorate of Policy, Occupational Safety and Health Administration, U.S. Department of Labor, Room N-3641, 200 Constitution Avenue, NW., Washington, DC 20210; telephone: (202) 693-2444. A copy of the Agency's Information-Collection Request (ICR) supporting the need for the information-collection requirements in the Noise Standard is available for inspection and copying in the Docket Office, or you may request a mailed copy by telephoning Todd R. Owen at (202) 693-2444. For electronic copies of the ICR on the Noise Standard, contact OSHA on the Internet at http://www.osha.gov.

SUPPLEMENTARY INFORMATION:

I. Background

The Department of Labor, as part of its continuing effort to reduce paperwork and respondent burden, conducts a preclearance consultation program to provide the general public and Federal agencies with an opportunity to comment on proposed and continuing information-collection requirements in accordance with the Paperwork Reduction Act of 1995 (PRA-95) (44 U.S.C. 3506(c)(2)(A)). This program ensures that information is in the desired format, reporting burden (time and costs) is minimal, collection instruments clearly understood, and OSHA's estimate of the information burden is correct. The Occupational Safety and Health Act of the 1970 (the Act) authorizes information collection by employers as necessary or appropriate for enforcement of the Act or for developing information regarding the causes and prevention of occupational injuries, illnesses, and accidents (29 U.S.C. 657).

The information-collection requirements specified in the Noise Standard protect employees from suffering material hearing impairment. The information-collection requirements of the Noise Standard include: Conducting noise monitoring; notifying employees exposed at or above an 8-hour time-weighted average of 85 decibels; providing employees with initial and annual audiograms; after comparing audiograms, notifying employees if they have a hearing loss; training employees on the hearing effects of noise, the purpose and effectiveness of hearing protectors, the selection and use of hearing protectors, the purpose of audiometric testing, and an explanation of audiometric testing procedures; maintaining records of workplace noise exposure and employee audiograms; and providing access to these records by employees, their designated representatives, and OSHA.

II. Proposed Actions

OSHA proposes to increase the existing burden-hour estimate, and to extend OMB's approval, of the collection-of-information (paperwork) requirements contained in the Noise Standard. The Agency is increasing its previous estimate of 5,166,401 burden hours by 470,677 burden hours. This increase resulted primarily from including, for the first time, the burden hours associated with employee training in the burden-hour estimates. OSHA will summarize the comments submitted in response to this notice, and will include this summary in the request to OMB to extend the approval of the information-collection requirements contained in the Noise Standard.

Type of Review: Extension of currently approved information-collection requirements.

Title: Noise Standard (29 CFR 1910.95).

OMB Number: 1218-0048.

Affected Public: Business or other for-profit; Federal government; State, Local or Tribal governments.

Number of Respondents: 379,512.

Frequency: On occasion.

Total Responses: 13,010,358.

Average Time per Response: Varies from 2 minutes to notify employees when noise exposure exceeds the 8-hour time-weighted average of 85 decibels to 1 hour for employees in small establishments to take an audiometric examinations.

Estimated Total Burden Hours: 5,637,078.

Estimated Cost (Operation and Maintenance): $53,891,845.

III. Authority and Signature

Charles N. Jeffress, Assistant Secretary of Labor for Occupational Safety and Health, directed the preparation of this notice. The authority for this notice is the Paperwork Reduction Act of 1995 (44 U.S.C. 3506) and Secretary of Labor's Order No 3-2000 (65 FR 50017).

Signed at Washington, DC, on September 19, 2000.
Charles N. Jeffress,
Assistant Secretary of Labor.

[FR Doc. 00-24804 Filed 9-26-00; 8:45 am]

BILLING CODE 4510-26-P